DEPARTMENT OF AGRICULTURE

Forest Service

Proposed Recreation Fee Sites

AGENCY: Forest Service, Agriculture (USDA).

ACTION: Notice.

SUMMARY: The Payette National Forest is proposing to establish several recreation fee sites. Proposed recreation fees collected at the proposed recreation fee sites would be used for operation, maintenance, and improvement of the sites. An analysis of nearby recreation fee sites with similar amenities shows that the proposed recreation fees are reasonable and typical of similar recreation fee sites in the area.

DATES: If approved, the proposed recreation fees would be established no earlier than six months following the publication of this notice in the Federal Register.

ADDRESSES: Payette National Forest, Attention: Emily Simpson, 500 North Mission Street Building 2, McCall, ID 83638.

FOR FURTHER INFORMATION CONTACT: Emily Simpson, Recreation and Wilderness Program Manager, (208) 634-0757, emily.simpson@usda.gov.

SUPPLEMENTARY INFORMATION: The Federal Lands Recreation Enhancement Act (16 U.S.C. 6803(b)) requires the Forest Service to publish in the Federal Register a six-month advance notice before establishment of proposed recreation fee sites. In accordance with Forest Service Handbook 2309.13, Chapter 30, the Forest Service will publish the proposed recreation fee sites and proposed recreation fees in local newspapers and other local publications for public comment. Most of the proposed recreation fees would be spent where they are collected to enhance the visitor experience at the proposed recreation fee sites.

A proposed expanded amenity recreation fee of $10 per night would be charged for Deadman Bar, Justrite, Kiwanis, Paradise, and Old East Fork campgrounds.

Fee revenue would be used to enhance recreation opportunities, improve customer service, and address maintenance needs.

Once public involvement is complete, the proposed recreation fee sites and proposed recreation fees will be reviewed by a Recreation Resource Advisory Committee prior to a final decision and implementation.

Lisa Northrop,
Associate Deputy Chief, National Forest System.

[FR Doc. 2025-17414 Filed 9-9-25; 8:45 am]

BILLING CODE 3411-15-P